DEPARTMENT OF ENERGY

Federal Energy Regulatory Commission

Notice of Application Accepted for Filing and Soliciting Motions to Intervene and Protests

Correction

In notice document 01-8217 beginning on page 17878 in the issue of Wednesday, April 4, 2001, make the following correction:

On page 17878, in the first column, “b. Project No.: P-28535-005” should read “b. Project No.: P-2835-005”.

[FR Doc. C1-8217 Filed 4-11-01; 8:45 am]

BILLING CODE 1505-01-D

DEPARTMENT OF JUSTICE

Office for Victims of Crime

[OJP[OVC]-1309]

Antiterrorism and Emergency Fund Guidelines for Terrorism and Mass Violence Crimes

Correction

In notice document 01-8044 beginning on page 17577 in the issue of Monday, April 2, 2001, make the following correction:

On page 17577, in the third column, under DATES, in the second line “April 2, 2001” should read “May 2, 2001”.

[FR Doc. C1-8044 Filed 4-11-01; 8:45 am]

BILLING CODE 1505-01-D